DEPARTMENT OF THE INTERIOR

National Park Service

[NPS-WASO-NAGPRA-NPS0029684; PPWOCRADN0-PCU00RP14.R50000]

Notice of Inventory Completion: Department of Anthropology, Southern Methodist University, Dallas, TX

AGENCY: National Park Service, Interior.

ACTION: Notice.

SUMMARY: The Department of Anthropology, Southern Methodist University (SMU) has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Department of Anthropology, Southern Methodist University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Department of Anthropology, Southern Methodist University at the address in this notice by March 20, 2020.

ADDRESSES: B. Sunday Eiselt, Department of Anthropology, Southern Methodist University, 3225 Daniel Avenue, Heroy Hall #450, Dallas, TX 75205, telephone (214) 768-2915, email seiselt@smu.edu.

SUPPLEMENTARY INFORMATION: Notice is here given in accordance with the Native American Graves Protection and Repatriation Act (NAGPRA), 25 U.S.C. 3003, of the completion of an inventory of human remains and associated funerary objects under the control of the Department of Anthropology, Southern Methodist University, Dallas, TX. The human remains and associated funerary objects were removed from site 41MM11, known as the San Xavier Mission, in Milam County, Texas.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Department of Anthropology, Southern Methodist University professional staff in consultation with representatives of the Caddo Nation of Oklahoma and the Tonkawa Tribe of Indians of Oklahoma (hereafter referred to as “The Tribes”).

History and Description of the Remains

In 1968, human remains representing, at minimum, 21 individuals were removed from the San Xavier Mission site in Milam County, TX. The site was investigated by Kathleen K. Gilmore, archeologist for the State Building Commission and SMU graduate student, under the supervision of Curtis Tunnell (State Archeologist). The financing for the San Xavier project came from the State Building Commission, and the work conducted by Gilmore was written up as her MA thesis at SMU.

As the Trench A, Feature 1 burial consists of a single human phalanx found commingled in faunal remains, the age and sex of the individual is indeterminate. Trench A, Feature 5 is a highly fragmented individual of indeterminate sex and age. Trench B, Feature 1, Individual 1 is an adult female. The fragmentary remains of Trench B, Feature 1, Individual 2 which were found commingled with those of Individual 1, consist of maxillary dentition and calcaneus fragments; age and sex are indeterminate. The human remains from Trench C, Feature 1 consist of several rib fragments; age and sex are indeterminate. Trench D, Feature 1 is an adult male. Trench E, Feature 1 is an adult female. Trench E, Feature 5 is an adult male. Trench E, Feature 9 consists of metatarsals and other assorted foot bones; age and sex are indeterminate. Trench E, Feature 11 is an adult male. Trench F, Feature 1, Individual 1 is an older adult male. In addition, the human remains of an infant (unnumbered) were found under the right foot of Individual 1. Trench F, Feature 1, Individual 2 consists of two phalanxes found commingled with faunal remains; sex and age are indeterminate. Trench F, Feature 2A, is an adult male whose remains were found underneath Trench F, Feature 2B, Individual 1, an adult female. (The head of Trench F, Feature 2A was located underneath the feet of Trench F, Feature 2B, Individual 1. Documentation from the excavation says that they were probably buried at the same time.) Trench F, Feature 2B, Individual 2 consists of four adult mandibular molars that were found commingled with Trench F, Feature 2B, Individual 1. Trench F, Feature 3 is an infant of indeterminate sex. The infant's poorly preserved remains consist of cranial and long bone fragments, were found underneath the right foot of Trench F, Feature 1. Trench F, Feature 4, Individual 1 is an older adult male. The human remains of Trench F, Feature 4, Individual 2 were found commingled with those of Trench F, Feature 4, Individual 1. The human remains consist of the left ilium of an adult female who was at least 35 years old. Likewise, the human remains of Trench F, Feature 4, Individual 3 were found commingled with those of Trench F, Feature 4, Individual 1. They belong to a child, and consist of a right femur broken into two pieces. Trench F, Feature 6 is a young adult female. Trench G, Features 1 & 2 are the human remains of a single adult individual. As the human remains consist only of cranial and long bone fragments, the sex of this individual cannot be determined. F4-Trench Cut-F1 is an adult of indeterminate sex (the human remains are fragmentary). As only the skull and some other skeletal fragments were removed in order to access the child burial in Trench E, Feature 6, the human remains of this adult individual were not completely excavated. (Missing from the SMU Collection is Trench E, Feature 6, a young child of indeterminate sex). No known individuals were identified. The 97 associated funerary objects are 56 beads, 10 ceramic fragments, nine glass shards, six bags of faunal remains, four bags of debitage, four lithic tools, one bag of mammal bone, one bag of beads, one bag of shells, one bag of lithic debitage, one projectile point, one bag of grave fill, one canister of thread, and one canister of gold thread.

The San Xavier Mission site dates to A.D. 1746-1755. Historical records documenting the mission clearly indicate the groups that were present during its occupation.

Determinations Made by the Department of Anthropology, Southern Methodist University

Officials of the Department of Anthropology, Southern Methodist University have determined that:

• Pursuant to 25 U.S.C. 3001(9), the human remains described in this notice represent the physical remains of 21 individuals of Native American ancestry.

• Pursuant to 25 U.S.C. 3001(3)(A), the 97 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to B. Sunday Eiselt, Department of Anthropology, Southern Methodist University, 3225 Daniel Avenue, Heroy Hall #450, Dallas, TX 75205, telephone (214) 768-2915, email seiselt@smu.edu, by March 20, 2020. After that date, if no additional requestors have come forward, transfer of control of the human remains and associated funerary objects to The Tribes may proceed.

The Department of Anthropology, Southern Methodist University is responsible for notifying The Tribes that this notice has been published.

Dated: January 21, 2020.
Melanie O'Brien,
Manager, National NAGPRA Program.

[FR Doc. 2020-03226 Filed 2-18-20; 8:45 am]

BILLING CODE 4312-52-P